AGENCY FOR INTERNATIONAL DEVELOPMENT

Notice of July 9 President's Global Development Council Meeting

AGENCY: United States Agency for International Development.

ACTION: Notice of Meeting.

SUMMARY: Pursuant to the Federal Advisory Committee Act, notice is hereby given of a meeting of the President's Global Development Council (GDC).

Date: Tuesday, July 9, 2013.

Time: 10:00 a.m.-11:30 a.m.

Location: Eisenhower Executive Office Building, South Court Auditorium, Pennsylvania Avenue and 17th Street NW., Washington, DC 20500.

Agenda

I. Opening Remarks: Vision for the GDC

II. Overview of the GDC's Role & Efforts

III. Presentations on Key Issues

IV. Request for Feedback and Q&A

Stakeholders

The meeting is free and open to the public. RSVPs are required. Persons wishing to attend should RSVP to Interest_GDC@who.eop.gov by July 7. Please note that capacity is limited. Additional information on web streaming will be forthcoming on www.whitehouse.gov.

FOR FURTHER INFORMATION CONTACT: Jayne Thomisee, 202-712-5506.

Dated: June 17, 2013.
Jayne Thomisee,
Executive Director & Policy Advisor, U.S. Agency for International Development.

[FR Doc. 2013-15047 Filed 6-21-13; 8:45 am]

BILLING CODE P